DEPARTMENT OF TRANSPORTATION

Federal Aviation Administration

Public Notice For Waiver Of Aeronautical Land-use Assurance Fort Wayne International Airport, Fort Wayne, IN

AGENCY: Federal Aviation Administration, DOT.

ACTION: Notice of intent of waiver with respect to land.

SUMMARY: The Federal Aviation Administration (FAA) is considering a proposal to change portions of airport land from aeronautical use to non-aeronautical use and to authorize the sale of the airport property. The proposal consists of a 4.0-acre portion of Parcel 6-4 and a 2.6758-acre portion of Parcel 5-19. Presently the land is vacant and used as open land for control of FAR Part 77 surfaces and compatible land use and is not needed for aeronautical use, as shown on the Airport Layout Plan. Parcel 6-4 (80.14 acres) was acquired in 1993 without Federal participation. Parcel 5-19 (22.00 acres) was obtained from the United States of America by Warranty Deed dated June 29, 1949. The release of the 2.6758-acre portion of Parcel 5-19 will require the coordination and approval of the United States of America (Department of Defense). It is the intent of the Fort Wayne—Allen County Airport Authority (FWACAA) to sell the 4.0-acre portion of Parcel 6-4 and the 2.6758-acre portion of Parcel 5-19. There are no impacts to the airport by allowing the FWACAA to dispose of the property. This notice announces that the FAA intends to authorize the disposal of the subject airport property at Fort Wayne International Airport, Fort Wayne, IN. Approval does not constitute a commitment by the FAA to financially assist in disposal of the subject airport property nor a determination that all measures covered by the program are eligible for grant-in-aid funding from the FAA. The disposition of proceeds from the disposal of the airport property will be in accordance with FAA's Policy and Procedures Concerning the Use of Airport Revenue, published in the Federal Register on February 16, 1999.

In accordance with section 47107(h) of Title 49, United States Code, this notice is required to be published in the Federal Register 30 days before modifying the land-use assurance that requires the property to be used for an aeronautical purpose.

DATES: Comments must be received on or before October 4, 2004.

FOR FURTHER INFORMATION CONTACT: Richard Pur, Program Manager, 2300 East Devon Avenue, Des Plaines, IL 60018. Telephone Number 847-294-7527/FAX Number 847-294-7046. Documents reflecting this FAA action may be reviewed at this same location by appointment or at the Fort Wayne—Allen County Airport Authority, Fort Wayne International Airport, Lt. Paul Baer Terminal, Suite 209, Fort Wayne, IN 46809.

SUPPLEMENTARY INFORMATION: Following are the legal descriptions of the property located at Fort Wayne, Allen County, Indiana:

Part of Parcel 5-19

Part of the Southeast Quarter of Section 5, Township 29 North, Range 12 East, together with part of the Northeast Quarter of Section 8, Township 29 North, Range 12 East, in Allen County, Indiana, being also a part of a 3.112 acre road right of way contained in Document Number 200009390, more particularly described as follows, to-wit:

To arrive at the point of beginning, commence on the south line of the Southeast Quarter of said Section 5, being coincident with the centerline of a public road known as the Ferguson Road at a point situated 138.9 feet East of the Southwest corner of the Southeast Quarter of the Southeast Quarter of said Section 5, said point being 268.6 feet West of the centerline of 2nd Street as established; thence South 0 degrees 49 minutes 15 seconds East and normal to said Ferguson Road centerline (bearings based upon plans by Certified Engineering, Inc. For Indianapolis and Ferguson Road Alignment modification dated Dec. 19, 2002), a distance of 40.00 feet to the point of beginning initially referred to; thence North 89 degrees 10 minutes 45 seconds East, parallel with the South line of said Southeast Quarter along the South 40 foot right of way of said Ferguson Road, a distance of 124.78 feet to the South 50 foot right of way per plans aforesaid; thence Northwesterly on said South 50 foot right of way on a non tangent circular curve to the right having a radius of 655.00 feet, a distance of 253.90 feet to a point of compound curve, the chord of which bears North 69 degrees 41 minutes 28 seconds West, 252.31 feet; thence continuing along said South 50 foot right of way on a circular curve to the right having a radius of 955.0 feet, a distance of 390.76 feet to the Northeasterly 40 foot right of way as described in said Document Number 200009390; thence along said 40 foot right of way, North 46 degrees 05 minutes 15 seconds West along the line aforesaid, a distance of 288.78 feet to a point of curve; thence Northerly and continuing along said 40 foot right of way along a circular curve to the right having a radius of 260.00 feet, a distance of 351.96 feet to a point of tangent; thence continuing along said 40 foot right of way, North 31 degrees 28 minutes 25 seconds East along said tangent, a distance of 155.80 feet to the West 50 foot right of way per the plans aforesaid; thence Northeasterly along said 50 foot right of way on a non tangent circular curve to the right having a radius of 955.0 feet, a distance of 279.74 feet to the Northwesterly 40 foot right of way of the Indianapolis Road as described in the Document Number aforesaid, the chord of which bears North 14 degrees 47 minutes 42 seconds East, 278.74 feet; thence South 31 degrees 28 minutes 25 seconds West along said 40 foot right of way, a distance of 422.82 feet to a point of curve; thence Southerly and continuing on said 40 foot right of way along a circular curve to the left having a radius of 340.00 feet, a distance of 460.26 feet to a point of tangent; thence continuing along said 40 foot right of way South 46 degrees 05 minutes 15 seconds East, a distance of 580.05 feet to a point of curve; thence continuing along said 40 foot right of way on a circular curve to the left having a radius of 340.00 feet, a distance of 265.45 feet to the point of beginning, containing 2.5964 Acres of land, more or less.

Part of Parcel 6-4

Part of the North half of the Southeast Quarter of Section 6, Township 29 North, Range 12 East, Allen County, Indiana, more particularly described as follows:

Commencing at the Southeast corner of the said southeast Quarter of Section 6, thence North 00 degrees 42 minutes 18 seconds West (bearing from Dalman Road Project INDOT STP-RS6602(4) and used for all subsequent bearings in this description) along the East line of the said Southeast Quarter of Section 6, said line being within the boundaries of the public highway known as Smith Road, a distance of 1326.91 feet to the Southeast corner of the said North half of the Southeast Quarter, thence South 88 degrees 59 minutes 17 seconds West (south 89 degrees 00 minutes 12 seconds West from Recorded Document #970038227 owner County of Allen, State of Indiana) along the South line of the said North half of the Southeast Quarter a distance of 79.49 feet to the point of beginning, said point being on the Westerly right of way line of Smith Road relocated; thence continuing South 88 degrees 59 minutes 17 seconds West along the said South line of the North half of the Southeast Quarter a distance of 661.77 feet; thence North 00 degrees 42 minutes 18 seconds West and parallel with said East line of the Southeast Quarter a distance of 290.00 feet; thence North 88 degrees 59 minutes 17 seconds East and parallel with the said South line of the North half of the Southeast Quarter a distance of 518.05 feet to a point on the said Westerly right of way line of Smith Road relocated; thence South 35 degrees 31 minutes 41 seconds East along said right of way line a distance of 77.30 feet; thence South 27 degrees 48 minutes 13 seconds East along said Westerly right of way line a distance of 187.36 feet; thence South 14 degrees 16 minutes 14 seconds East along the said Westerly right of way line a distance of 60.67 feet to the point of beginning, containing 4.00 acres of land more or less.

Issued in Des Plaines, Illinois on August 24, 2004.
Philip M. Smithmeyer,
Manager, Chicago Airports District Office, FAA, Great Lakes Region.

[FR Doc. 04-20177 Filed 9-2-04; 8:45 am]

BILLING CODE 4910-13-M